SURFACE TRANSPORTATION BOARD

[Docket No. AB 1267 (Sub-No. 1X)]

Cassatt Management, LLC d/b/a Bay Coast Railroad—Discontinuance of Service Exemption—in Norfolk, Va.

Cassatt Management, LLC d/b/a Bay Coast Railroad (BCR), has filed a verified notice of exemption under 49 CFR part 1152 subpart F—Exempt Abandonments and Discontinuances of Service to discontinue service over a rail line comprised of segments (a) between milepost 102.1 and milepost 100.7 (Segment A) and (b) between milepost 100.7 and milepost 100.3 (Segment B), both in Norfolk, Va. (the Line).¹ The Line traverses U.S. Postal Service Zip Code 23504.

¹ The verified notice states that Segment A is owned by the Canonie Atlantic Co. (CAC) and Segment B is owned by Norfolk Southern Railway Company. CAC concurrently is seeking Board authority to abandon Segment A. See Canonie Atl. Co.—Aban. Exemption—in Norfolk, Va., Docket No. AB 1266 (Sub-No. 1X). Here, the verified notice states that CAC is acting on behalf of BCR in filing the discontinuance request. See also Cassatt Management LLC—Discontinuance of Service Exemption—Hallwood to Cape Charles, Va., Docket No. AB 1267X.

BCR has certified that: (1) No local traffic has moved over the Line in over two years; (2) there has been no overhead traffic over the Line in over two years; (3) no formal complaint filed by a user of rail service on the Line (or a state or local government entity acting on behalf of such user) regarding cessation of service over the Line either is pending with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on January 27, 2021, unless stayed pending reconsideration. Petitions to stay that do not involve environmental issues and formal expressions of intent to file an OFA to subsidize continued rail service under 49 CFR 1152.27(c)(2) ³ must be filed by January 7, 2021.⁴ Petitions for reconsideration must be filed by January 19, 2021.

² Persons interested in submitting an OFA to subsidize continued rail service must first file a formal expression of intent to file an offer, indicating the intent to file an OFA for subsidy and demonstrating that they are preliminarily financially responsible. See 49 CFR 1152.27(c)(2)(i).

³ The filing fee for OFAs can be found at 49 CFR 1002.2(f)(25).

⁴ Because this is a discontinuance proceeding and not an abandonment, interim trail use/rail banking and public use conditions are not appropriate. Because there will be an environmental review during abandonment, this discontinuance does not require environmental review.

A copy of any petition filed with Board should be sent to BCR's representative, Eric M. Hocky, Clark Hill, PLC, Two Commerce Square, 2001 Market St., Suite 2620, Philadelphia, PA 19103.

If the verified notice contains false or misleading information, the exemption is void ab initio.

Board decisions and notices are available at www.stb.gov.

Decided: December 21, 2020.
By the Board, Allison C. Davis, Director, Office of Proceedings.
Tammy Lowery,
Clearance Clerk.

[FR Doc. 2020-28631 Filed 12-23-20; 8:45 am]

BILLING CODE 4915-01-P